DEPARTMENT OF COMMERCE

International Trade Administration

[A-570-830]

Notice of Initiation of Changed Circumstances Review and Consideration of Revocation of the Antidumping Duty Order: Coumarin From the Peoples's Republic of China

AGENCY: Import Administration, International Trade Administration, U.S. Department of Commerce.

SUMMARY: In accordance with 19 CFR 351.216(b), Berjé Incorporated (Berjé), a U.S. importer of subject merchandise and an interested party in this proceeding, filed a request for a changed circumstances review of the antidumping duty order on coumarin from the People's Republic of China (PRC), as described below. In response to this request, the Department of Commerce (the Department) is initiating a changed circumstances review of the antidumping duty order on coumarin from the PRC.

EFFECTIVE DATE: August 6, 2003.

FOR FURTHER INFORMATION CONTACT: Addilyn Chams-Eddine or Dana Mermelstein, Office of AD/CVD Enforcement VII, Import Administration, International Trade Administration, U.S. Department of Commerce, 14th Street and Constitution Avenue, NW., Washington DC 20230; telephone: (202) 482-0648 or (202) 482-1391, respectively.

Background

On February 9, 1995, the Department published in the Federal Register the antidumping duty order on coumarin from the PRC. See Notice of Antidumping Order: Coumarin from the People's Republic of China, 60 FR 7751. On June 23, 2003, Berjé, a U.S. importer of subject merchandise and an interested party in this proceedings, requested that the Department conduct a changed circumstances review for the purpose of revoking the antidumping duty order on coumarin from the PRC. According to Berjé, Rhone-Poulenc Specialty Chemicals Company (Rhone-Poulenc), the petitioner, was the only domestic coumarin producer at the time of the original investigation. Since the original investigation, Rhone-Poulenc has changed its company name and now does business under the name Rhodia, Inc. (Rhodia). Bergé informed the Department that Rhodia, in a press release dated November 28, 2001, announced its intent to cease production of coumarin in 2002. Berjé further provided information obtained from Rhodia indicating that Rhodia no longer produces coumarin in the United States.

Scope of the Review

The product covered by this order is coumarin. Coumarin is an aroma chemical with the chemical formula (C9H6O2) that is also known by other names, including 2H-1-benzopyran-2-one, 1, 2-benzopyrone, cis-o-coumaric acid lactone, coumarinic anhydride, 2-Oxo-1, 2-benzopyran, 5, 6-benzo-alpha-pyrone, ortho-hydroxyc innamic acid lactone, cis-ortho-coumaric acid anhydride, and tonka bean camphor.

All forms and variations of coumarin are included within the scope of the order, such as coumarin in crystal, flake, or powder form, and “crude” or unrefined coumarin (i.e., prior to purification or crystallization). Excluded from the scope of this order are ethylcoumarins (C11H10O2) and methylcoumarins (C10H8O2). Coumarin is classifiable under subheading 2932.21.0000 of the Harmonized Tariff Schedule of the United States (HTSUS). Although the HTSUS subheading is provided for convenience and customs purposes, our written description of the scope of this investigation is dispositive.

Initiation of Changed Circumstances Review

Pursuant to section 782(h)(2) the Tariff Act of 1930, as amended (the Act), the Department may revoke an antidumping or countervailing duty order based on a review under section 751(b) of the Act (e.g., a changed circumstances review). Section 751(b)(1) of the Act requires a changed circumstance review to be conducted upon receipt of a request which shows changed circumstances sufficient to warrant a review. Section 351.222(g) of the Department's regulations provides that the Department will conduct a changed circumstances review under 19 CFR 351.216 and may revoke an order (in whole or in part) if it determines that producers accounting for substantially all of the production of the domestic like product to which the order (or the part of the order to be revoked) pertains have expressed a lack of interest in the relief provided by the order, in whole or in part, or if changed circumstances exist to warrant revocation.

In this case, the Department finds that the press release and other information submitted by Berjé provides sufficient evidence of changed circumstances to warrant the initiation of a changed circumstances review. The press release, dated November 28, 2001, announced Rhodia's intent to cease its U.S. production of coumarin in 2002. Given this information the Department will consider whether the U.S. industry maintains an interest in continuing the order.

Interested parties may submit comments for consideration in the Department's preliminary results not later than 20 days after publication of this notice. Responses to those comments may be submitted not later than 10 days following submissions of the comments. All written comments must be submitted in accordance with 19 CFR 351.303, and must be served on all interested parties on the Department's service list in accordance with 19 CFR 351.303.

The Department will publish in the Federal Register a notice of preliminary results of changed circumstances review, in accordance with 19 CFR 351.221(c)(3)(i), which will set forth the factual and legal conclusions upon which our preliminary results are based, and a description of any actions proposed based on the those results. The Department will also issue its final results of review within 270 days after the date on which the changed circumstances review is initiated or within 45 days if all parties agree, in accordance with 19 CFR 351.216(e), and will publish these results in the Federal Register.

While the changed circumstances review is underway, the current requirement for a cash deposit of estimated antidumping duties on all subject merchandise will continue unless and until it is modified pursuant to the final results of the changed circumstances review.

This notice is in accordance with sections 751(b)(1) of the Act and 19 CFR 351.216 and 351.222.

Dated: July 31, 2003.
Richard O. Weible,
Acting Deputy Assistant Secretary for Import Administration, Group III.

[FR Doc. 03-20048 Filed 8-5-03; 8:45 am]

BILLING CODE 3510-DS-P